DEPARTMENT OF JUSTICE

Notice of Lodging of Proposed Consent Decree Under the Comprehensive Environmental Response Compensation and Liability Act, Concerning Natural Resource Damages

On April 3, 2013, the Department of Justice lodged a proposed Consent Decree with the United States District Court for the Southern District of Texas in the lawsuit entitled United States and the State of Texas v. Arkema, Inc, Civil Action No. 13-cv-00935 (S.D. Tex.).

Co-plaintiffs United States and State of Texas seek redress from Defendant Akema, Inc. for damages to natural resources that resulted from discharge of hazardous substances at and from a facility that formulated agricultural chemicals, located in the vicinity of 201 West Dodge Street, Bryan, Brazos County, Texas.

Under the settlement embodied in the proposed Decree, Arkema will pay the federal and state natural resource trustees a total of $1.4 million, of which more than $1.1 million will be jointly administered and used by those trustees to restore, replace, or acquire the equivalent of the injured natural resources. The balance of the payment will be used to reimburse the trustees for previously-incurred assessment costs (almost $0.160 million to the United States and almost $0.124 million to the State). Also under the proposed settlement, the United States covenants not to sue Arkema for natural resource damages at the facility under specified provisions of the Clean Water Act and the Comprehensive Environmental Response Compensation and Liability Act. The State covenants not to sue Arkema on similar terms.

The publication of this notice opens a period for public comment on the proposed Decree. Comments should be addressed to the Assistant Attorney General, Environment and Natural Resources Division, and should refer to United States and Texas v. Arkema, Inc., D.J. Ref. No. 90-11-3-09893. All comments must be received no later than thirty (30) days after the publication date of this notice. Comments may be submitted either by email or by mail:

To submit comments: | Send them to:
By email | pubcomment-ees.enrd@usdoj.gov.
By mail | Assistant Attorney General, U.S. DOJ-ENRD, P.O. Box 7611, Washington, DC 20044-7611.

During the public comment period, the proposed may be examined and downloaded at this Justice Department Web site: http://www.usdoj.gov/enrd/Consent_Decrees.html. We will provide a paper copy of the proposed Decree upon written request and payment of reproduction costs. Please mail your request and payment to:

Consent Decree Library, U.S. DOJ-ENRD, P.O. Box 7611, Washington, DC 20044-7611.

Please enclose a check or money order for $4.25 (25 cents per page reproduction cost) payable to the United States Treasury.

Maureen Katz,
Assistant Section Chief, Environmental Enforcement Section, Environment and Natural Resources Division.

[FR Doc. 2013-08309 Filed 4-9-13; 8:45 am]

BILLING CODE 4410-15-P